DEPARTMENT OF COMMERCE

Foreign-Trade Zones Board

[Docket 5-2001]

Foreign-Trade Zone 26—Atlanta, Georgia; Application for Subzone, Roper Corporation (Home Appliances), LaFayette, Georgia

An application has been submitted to the Foreign-Trade Zones Board (the Board) by the Georgia Foreign-Trade Zone, Inc., grantee of FTZ 26, requesting special-purpose subzone status for the manufacturing and warehousing facilities of Roper Corporation (Roper), located in LaFayette, Georgia. The application was submitted pursuant to the provisions of the Foreign-Trade Zones Act, as amended (19 U.S.C. 81a-81u), and the regulations of the Board (15 CFR part 400). It was formally filed on January 22, 2001.

The Roper facility (116 acres, 1,650 employees), is located at 1507 Broomtown Road, Lafayette, Georgia (Walker County). The facility is used for the manufacturing and warehousing of various types of kitchen ranges (HTS 8516.60, duty-free). Components and materials sourced from abroad (representing about 20% of all parts consumed in manufacturing) include: control panels, connectors, microwave oven modules, hinges, and thermocouples (HTS 8302.10, 8516.50, 8536.69, 8537.10 and 9025.80, duty rate ranges from 1.6% to 3.5%).

FTZ procedures would exempt Roper from Customs duty payments on the foreign components used in export production. On its domestic sales, Roper would be able to choose the duty rates during Customs entry procedures that apply to finished kitchen ranges (duty-free) for the foreign inputs noted above. The request indicates that the savings from FTZ procedures would help improve the plant's international competitiveness.

In accordance with the Board's regulations, a member of the FTZ staff has been appointed examiner to investigate the application and report to the Board.

Public comment on the application is invited from interested parties. Submissions (original and 3 copies) shall be addressed to the Board's Executive Secretary at the address below. The closing period for their receipt is April 2, 2001. Rebuttal comments in response to material submitted during the foregoing period may be submitted during the subsequent 15-day period to April 16, 2001.

A copy of the application and the accompanying exhibits will be available for public inspection at each of the following locations:

U.S. Export Assistance Center, Marquis Two Tower, Suite 200, 285 Peachtree Center Avenue, NE, Atlanta, GA 30303-1229.

Office of the Executive Secretary, Foreign-Trade Zones Board, Room 4008, U.S. Department of Commerce, 14th and Pennsylvania Avenue, NW., Washington, DC 20230.

Dated: January 22, 2001.
Dennis Puccinelli,
Executive Secretary.

[FR Doc. 01-2530 Filed 1-29-01; 8:45 am]

BILLING CODE 3510-DS-P